DEPARTMENT OF HEALTH AND HUMAN SERVICES

Centers for Disease Control and Prevention

[Docket No. CDC-2021-0055; NIOSH 232]

Board of Scientific Counselors, National Institute for Occupational Safety and Health (BSC, NIOSH), National Firefighter Registry Subcommittee

AGENCY: Centers for Disease Control and Prevention (CDC), Department of Health and Human Services (HHS).

ACTION: Notice of meeting and request for comment.

SUMMARY: In accordance with the Federal Advisory Committee Act, the CDC announces the following meeting of the Board of Scientific Counselors (BSC), National Institute for Occupational Safety and Health (NIOSH), National Firefighter Registry Subcommittee. This is a virtual meeting. It is open to the public, limited only by web conference seats (500 web conference seats are available). If you wish to attend, please register at the NIOSH website https://www.cdc.gov/niosh/bsc/nfrs/registration.html or call (404-498-2581) no later than August 6, 2021. Time will be available for public comment.

DATES: The meeting will be held on August 13, 2021, from 1:00 p.m. to 4:00 p.m., EDT. The public may submit comments from June 4, 2021 through August 6, 2021.

ADDRESSES: This is a virtual meeting. You may submit comments, identified by Docket No. CDC-2021-0055; NIOSH-232 by mail. CDC does not accept comments by email.

• Federal eRulemaking Portal: https://www.regulations.gov. Follow the instructions for submitting comments.

• Mail: Docket number CDC-2021-0055; NIOSH-232, c/o Sherri Diana, NIOSH Docket Office, National Institute for Occupational Safety and Health, 1090 Tusculum Avenue, MS C-34, Cincinnati, Ohio 45226.

Instructions: All submissions received must include the Agency name and Docket Number. Written public comments received by August 6, 2021 will be provided to the BSC prior to the meeting. Docket number CDC-2021-0055; NIOSH-232 will close August 6, 2021.

FOR FURTHER INFORMATION CONTACT: Emily J.K. Novicki, M.A., M.P.H., Executive Secretary, BSC, NIOSH, CDC, 1600 Clifton Road NE, MS V24-4, Atlanta, Georgia 30329-4027, Telephone: (404) 498-2581; Email: enovicki@cdc.gov.

SUPPLEMENTARY INFORMATION: Purpose: The Secretary, the Assistant Secretary for Health, and by delegation the Director, Centers for Disease Control and Prevention, are authorized under Sections 301 and 308 of the Public Health Service Act to conduct directly or by grants or contracts, research, experiments, and demonstrations relating to occupational safety and health and to mine health. The Board of Scientific Counselors, National Firefighter Registry Subcommittee (the Subcommittee) provides guidance to the Director, National Institute for Occupational Safety and Health on matters related to the National Firefighter Registry. Specifically, the Subcommittee provides guidance and professional input to the Board of Scientific Counselors (BSC) that will assist the BSC in advising the Director about NIOSH's efforts to establish and operate the National Firefighter Registry. The Subcommittee also provides guidance to the Board of Scientific Counselors (BSC) on the following issues pertaining to the “required strategy” as mandated by the Firefighter Cancer Registry Act of 2018 (the Act): (1) Increase awareness of the National Firefighter Registry and encouraging participation among all groups of firefighters, (2) consider data collection needs, (3) consider data storage and electronic access of health information, (4) in consultation with subject matter experts develop a method for estimating the number and type of fire incidents attended by a firefighter. Additional responsibilities of the Subcommittee are to provide guidance to the BSC regarding inclusion and the maintenance of data on firefighters as required by the Act.

Matters To Be Considered: The agenda for the meeting addresses issues related to: The National Firefighter Registry (NFR) protocol including functionality of the planned NFR enrollment system, security measures, high-level technology, and use cases applicable to stakeholders. Agenda items are subject to change as priorities dictate. An agenda is also posted on the NIOSH website https://www.cdc.gov/niosh/bsc/nfrs/.

Meeting Information: The virtual meeting is open to the public, limited only by web conference lines (500 web conference lines are available). Register at the NIOSH website https://www.cdc.gov/niosh/bsc/nfrs/registration.html or call (404-498-2581) no later than August 6, 2021.

Public Participation

Comments received are part of the public record and are subject to public disclosure. Do not include any information in your comment or supporting materials that you consider confidential or inappropriate for public disclosure. If you include your name, contact information, or other information that identifies you in the body of your comments, that information will be on public display. CDC will review all submissions and may choose to redact, or withhold, submissions containing private or proprietary information such as Social Security numbers, medical information, inappropriate language, or duplicate/near duplicate examples of a mass-mail campaign. CDC will carefully consider all comments submitted into the docket. CDC does not accept comment by email.

Procedures for Oral Public Comment: The public is welcome to participate during the public comment period, from 2:00 p.m. to 2:15 p.m., EDT, August 13, 2021. Please note that the public comment period ends at the time indicated above. Each commenter will be provided up to five minutes for comment. A limited number of time slots are available and will be assigned on a first come-first served basis. Members of the public who wish to address the NIOSH BSC are requested to contact the Executive Secretary for scheduling purposes (see FOR FURTHER INFORMATION CONTACT above).

Procedures for Written Public Comment: Written comments will also be accepted from those unable to attend the public session per the instructions provided in the address section above. Written comments received in advance of the meeting will be included in the official record of the meeting. Written comments received by August 6, 2021 will be provided to the BSC prior to the meeting. Docket number CDC-2021-0055; NIOSH-232 will close August 6, 2021.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-11772 Filed 6-3-21; 8:45 am]

BILLING CODE 4163-18-P